DEPARTMENT OF DEFENSE

Office of the Secretary

[Docket ID: DOD-2010-OS-0156]

Privacy Act of 1974; System of Records

AGENCY: National Security Agency/Central Security Service, DoD.

ACTION: Notice To Alter a System of Records.

SUMMARY: The National Security Agency/Central Security Service is proposing to alter a system of records in its existing inventory of records systems subject to the Privacy Act of 1974, (5 U.S.C. 552a), as amended.

DATES: This proposed action will be effective without further notice on December 30, 2010 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: National Security Agency/Central Security Service, Freedom of Information Act and Privacy Act Office, 9800 Savage Road, Suite 6248, Ft. George G. Meade, MD 20755-6248, Ms. Anne Hill at (301) 688-6527.

SUPPLEMENTARY INFORMATION: The National Security Agency/Central Security Service system of records notices subject to the Privacy Act of 1974, (5 U.S.C. 552a), as amended, have been published in the Federal Register and are available from the FOR FURTHER INFORMATION CONTACT address above.

The proposed system report, as required by 5 U.S.C. 552a of the Privacy Act of 1974, as amended, was submitted on November 17, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals, “dated February 8, 1996 (February 20, 1996, 61 FR 6427).

Dated: November 18, 2010.
Morgan F. Park,
Alternate OSD Federal Register Liaison Officer, Department of Defense.

GNSA 18

System Name:

Operations Files (January 3, 2002, 67 FR 309).

* * * * *

Changes:

System Name:

Change system name to “Operations Files.”

* * * * *

Categories of records in the system:

Delete entry and replace with “Records include individual's name, Social Security Number (SSN); employee identification number; administrative information; biographic information; intelligence requirements, analysis and reporting; information systems security analysis and reporting; operational records; articles; public-source data; and other published information on individuals and events of interest to NSA/CSS; actual or purported compromises of classified intelligence; countermeasures in connection therewith; and identification of classified source documents and distribution thereof.”

Authority for maintenance of the system:

Delete entry and replace with “National Security Agency Act of 1959, as amended (Pub. L. 86-36) (codified at 50 U.S.C. 402 note); E.O. 12333, as amended, United States Intelligence Activities; E.O. 13526, Classified National Security Information; National Security Directive 42, National Policy for the Security of National Security Telecommunications and Information Systems; and E.O. 9397 (SSN), as amended.”

* * * * *

Storage:

Delete entry and replace with “Paper records in file folders and electronic storage media.”

Retrievability:

Delete entry and replace with “Information is retrieved by individual's name, Social Security Number (SSN), and/or employee identification number.”

* * * * *

Safeguards:

Delete entry and replace with “Buildings are secured by a series of guarded pedestrian gates and checkpoints. Access to facilities is limited to security-cleared personnel and escorted visitors only. Within the facilities themselves, access to paper and computer printouts is controlled by limited-access facilities and lockable containers. Access to electronic means is computer password protected.”

Retention and Disposal:

Delete entry and replace with “Intelligence Reports: Permanent, transfer to the NSA/CSS Records Center when 5 years old and transfer to the National Archives and Records Administration when 50 years old.

Intelligence Products: Permanent, transfer to the NSA/CSS Records Center when 5 years old and transfer to the National Archives and Records Administration when 50 years old.

Intelligence Collection Records: Temporary, transfer to NSA/CSS Records Center annually, review every 5 years for destruction.

Production records: Temporary, review every 5 years for destruction.

Records are destroyed by pulping, burning, shredding, or erasure or destruction of magnet media.”

* * * * *

Notification procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, address and telephone number.”

Record access procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, address and telephone number.”

Contesting record procedures:

Delete entry and replace with “The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248.”

* * * * *

GNSA 18

System name:

Operations Records.

System location:

National Security Agency/Central Security Service, Ft. George G. Meade, MD 20755-6000.

Categories of individuals covered by the system:

Individuals identified in foreign intelligence, counterintelligence, or information system security reports and supportive materials, including individuals involved in matters of foreign intelligence interest, information systems security interest, the compromise of classified information, or terrorism.

Categories of records in the system:

Records include individual's name, Social Security Number (SSN), employee identification number; administrative information; biographic information; intelligence requirements, analysis and reporting; information systems security analysis and reporting; operational records; articles, public-source data, and other published information on individuals and events of interest to NSA/CSS; actual or purported compromises of classified intelligence; countermeasures in connection therewith; and identification of classified source documents and distribution thereof.

Authority for maintenance of the system:

National Security Agency Act of 1959, as amended (Pub. L. 86-36) (codified at 50 U.S.C. 402 note); E.O. 12333, as amended, United States Intelligence Activities; E.O. 13526, Classified National Security Information; National Security Directive 42, National Policy for the Security of National Security Telecommunications and Information Systems; and E.O. 9397 (SSN), as amended.

Purpose(s):

To maintain records on foreign intelligence, counterintelligence, and information systems security matters relating to the mission of the National Security Agency.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To U.S. Government agencies, and in some instances foreign government agencies or their representatives, to provide foreign intelligence, counterintelligence, information systems security information, and other information.

To U.S. Government officials regarding compromises of classified information including the document(s) apparently compromised, implications of disclosure of intelligence sources and methods, investigative data on compromises, and statistical and substantive analysis of the data.

To any U.S. Government organization in order to facilitate any security, employment, detail, liaison, or contractual decision by any U.S. Government organization.

Records may further be disclosed to agencies involved in the protection of intelligence sources and methods to facilitate such protection and to support intelligence analysis and reporting.

The DoD `Blanket Routine Uses' published at the beginning of the NSA/CSS' compilation of systems of records notices apply to this system.

Policies and practices for storing, retrieving, accessing, retaining, and disposing of records in the system:

Storage:

Paper records in file folders and electronic storage media.

Retrievability:

Information is retrieved by individual's name, Social Security Number (SSN), and/or employee identification number.

Safeguards:

Buildings are secured by a series of guarded pedestrian gates and checkpoints. Access to facilities is limited to security-cleared personnel and escorted visitors only. Within the facilities themselves, access to paper and computer printouts are controlled by limited-access facilities and lockable containers. Access to electronic means is controlled by computer password protection.

Retention and disposal:

Intelligence Reports: Permanent, transfer to the NSA/CSS Records Center when 5 years old and transfer to the National Archives and Records Administration when 50 years old.

Intelligence Products: Permanent, transfer to the NSA/CSS Records Center when 5 years old and transfer to the National Archives and Records Administration when 50 years old.

Intelligence Collection Records: Temporary, transfer to NSA/CSS Records Center annually, review every 5 years for destruction. Production records: Temporary, review every 5 years for destruction.

Records are destroyed by pulping, burning, shredding, or erasure or destruction of magnet media.

System manager(s) and address:

Director, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Suite 6248, Ft. George G. Meade, MD 20755-6248.

Written inquiries should contain the individual's full name, address and telephone number.

Record access procedures:

Individuals seeking access to information about themselves contained in this system should address written inquiries to the National Security Agency/Central Security Service, Freedom of Information Act/Privacy Act Office, 9800 Savage Road, Suite 6248, Ft. George G. Meade, MD 20755-6248.

Written inquiries should contain the individual's full name, address and telephone number.

Contesting record procedures:

The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248.

Record source categories:

Individuals themselves; U.S. agencies and organizations; media, including periodicals, newspapers, and broadcast transcripts; public and classified reporting; intelligence source documents; investigative reports; and correspondence.

Exemptions claimed for the system:

Information specifically authorized to be classified under E.O. 12958, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. NOTE: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated according to the requirements of 5 U.S.C. 553(b)(1), (2), and (3), (c) and (e) and published in 32 CFR part 322. For additional information contact the system manager.

[FR Doc. 2010-30042 Filed 11-29-10; 8:45 am]

BILLING CODE 5001-06-P